DEPARTMENT OF COMMERCE

National Oceanic and Atmospheric Administration

[RTID 0648-XA931]

Gulf of Mexico Fishery Management Council; Public Meetings

AGENCY: National Marine Fisheries Service (NMFS), National Oceanic and Atmospheric Administration (NOAA), Commerce.

ACTION: Notice of a public meeting.

SUMMARY: The Gulf of Mexico Fishery Management Council (Council) will hold a four-day webinar meeting to consider actions affecting the Gulf of Mexico fisheries in the exclusive economic zone (EEZ).

DATES: The webinar will convene Monday, April 12, 2021 through Wednesday, April 14, 2021, from 9 a.m. until 5:30 p.m. EDT. On Thursday, April 15, 2021, the meeting will convene at 9 a.m. until 4:30 p.m. EDT.

ADDRESSES: The meeting will take place via webinar; you may access the log-on information at www.gulfcouncil.org.

Council address: Gulf of Mexico Fishery Management Council, 4107 W Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, April 12, 2021; 9 a.m.-5:30 p.m.

The meeting will begin in a Full Council—Closed Session to discuss the selection of Reef Fish Advisory Panel Members; selection of Shrimp Advisory Panel Members; and selection of the 2020 Law Enforcement Officer/Team of the Year.

Committee sessions, open to the public will begin approximately 10:15 a.m. with Shrimp Committee reviewing the Biological Review of the Texas Closure, Gulf Shrimp Fishery Effort and Landings, 2019 Royal Red Shrimp Index, an update on Effort Data Collection; and, discuss any remaining Summary items from the Shrimp Advisory Panel Meeting.

Following lunch, the Mackerel Committee will receive an update on Coastal Migratory Pelagics Landings; review Amendment 32: Modifications to the Gulf of Mexico Migratory Group Cobia Catch Limits, Possession Limits, Size Limits, and Framework Procedure and South Atlantic Recommendations, the remaining Coastal Migratory Pelagics AP Recommendations; and, discuss individual fishing quota for the Gulf King Mackerel Commercial Southern Gillnet Zone.

The Data Collection Committee will review the AP Recommendations for Proposed Commercial e-logbook Requirements; receive an update on Southeast For-hire Electronic Reporting (SEFHIER) Program; and, a presentation on Methodology Used for Red Snapper Recreational and Commercial Discards Used in Stock Assessments and Annual Catch Level Monitoring.

Tuesday, April 13, 2021; 9 a.m.-5:30 p.m.

Reef Fish Committee will receive a presentation on 2020 Recreational Landings Imputation; review Reef Fish Landings and the Great Red Snapper Count (GRSC) Project and SSC Recommendations. The Committee will review Final Action items: Framework Action: Modify Gulf of Mexico Red Snapper Catch Limits and SSC review of the Red Snapper Catch analysis and Framework Action: Modify Gulf of Mexico Red Snapper Recreational Data Calibration and Recreational Catch Limits. The Committee will review the revised Public Hearing Draft Amendment 53: Red Grouper Allocations and Annual Catch Levels and Targets; and, review and discuss remaining items from January 2021 Statistical and Scientific Committee (SSC); February 2021 Reef Fish Advisory Panel (AP) Summary Reports; and the implementation of the DESCEND Act of 2020.

The Gulf of Mexico Fishery Management Council and National Oceanic and Atmospheric Administration/National Marine Fisheries Service (NOAA/NMFS) will hold an informal Question and Answer session immediately following the Reef Fish Committee.

Wednesday, April 14, 2021; 9 a.m.-5:30 p.m.

The Habitat Protection and Restoration Committee will receive a presentation and outline on Generic Essential Fish Habitat (EFH) Amendment; receive an overview of E.O. 14008 Sec 216c: Conserving Our Nations Lands and Waters.

The Full Council will reconvene approximately 11:15 a.m. with a Call to Order, Announcements and Introductions; and Announcement of the 2020 Officer of the Year/Team of the Year Award. The Council will continue with Adoption of Agenda, Approval of Minutes; and receive a presentation on Exploring Unexplained Variability in Stock-Recruitment Relationship Estimates for the Gulf of Mexico's Greater Amberjack (Seriola dumerili).

Following lunch, the Council will receive a presentation on recommendations to the Gulf of Mexico Fishery Management Council: Coordinating data and approaches to conduct a Kemp's ridley sea turtle stock assessment.

The Council will hold public testimony 2 p.m.-5:30 p.m., EDT for comments on Final Action items: Framework Action: Modify Gulf of Mexico Red Snapper Catch Limits and Framework Action: Gulf of Mexico Red Snapper Recreational Data Calibration and Recreational Catch Limits; comments on E.O. 14008 Sec 216c: Conserving Our Nations Lands and Waters; and, open testimony on other fishery issues or concerns. Public comment may begin earlier than 2 p.m. EDT, but will not conclude before that time. Persons wishing to give public testimony must follow the instructions on the Council website before the start of the public comment period at 2 p.m. EDT.

Thursday, April 15, 2021; 8:30 a.m.-4:30 p.m.

The Council will receive committee reports from Shrimp, Mackerel, Data Collection, Habitat Protection and Restoration, and Reef Fish Committees.

The Council will receive updates from the following supporting agencies: South Atlantic Fishery Management Council; NOAA Office of Law Enforcement (OLE); Mississippi Law Enforcement Efforts; Gulf States Marine Fisheries Commission; U.S. Coast Guard; U.S. Fish and Wildlife Service; and Department of State.

Finally, the Council will discuss Other Business items; USDA Dietary Guidelines from Department of Health and Human Services and Background Information on Other Executive Orders from NMFS headquarters.

—Meeting Adjourns

The meeting will be broadcast via webinar. You may register for the webinar by visiting www.gulfcouncil.org and clicking on the Council meeting on the calendar.

The timing and order in which agenda items are addressed may change as required to effectively address the issue, and the latest version along with other meeting materials will be posted on the website as they become available.

Although other non-emergency issues not contained in this agenda may come before this group for discussion, in accordance with the Magnuson-Stevens Fishery Conservation and Management Act (Magnuson-Stevens Act), those issues may not be the subject of formal action during these meeting. Actions will be restricted to those issues specifically listed in this notice and any issues arising after publication of this notice that require emergency action under Section 305(c) of the Magnuson-Stevens Act, provided that the public has been notified of the Council's intent to take final action to address the emergency.

(Authority: 16 U.S.C. 1801 et seq.)

Dated: March 23, 2021.
Tracey L. Thompson,
Acting Deputy Director, Office of Sustainable Fisheries, National Marine Fisheries Service.

[FR Doc. 2021-06278 Filed 3-25-21; 8:45 am]

BILLING CODE 3510-22-P